DEPARTMENT OF ENERGY

Notice of Competitive Financial Assistance for the Office of Energy Efficiency and Renewable Energy

AGENCY: Department of Energy.

ACTION: Notice of Competitive Financial Assistance Solicitation.

SUMMARY: The Department of Energy (DOE) announces a competitive solicitation for applications for grants and cooperative agreements for information dissemination, public outreach, training, and related technical analysis and technical assistance activities involving renewable energy and energy efficiency. It is estimated that funding of approximately $1.2 million will be available for renewable energy programs and an additional $3 million will be available for energy efficiency programs for awards under this solicitation in fiscal year 2002. Areas of interest involving renewable energy include wind, hydrogen and geothermal technologies. Energy efficiency areas of interest include energy efficiency in the transportation, buildings, and industrial sectors. The awards may be for a period of six months to three years. Proposals will be subject to the objective merit review procedures for the Office of Energy Efficiency and Renewable Energy (EERE). Eligible applicants for this solicitation are profit organizations, non-profit institutions and organizations, state and local governments, universities, individuals, Native American organizations, and Alaskan Native Corporations.

ADDRESSES: The formal solicitation document, which will include greater detail about specific program areas of interest, application instructions, and evaluation criteria, is expected to be issued in the beginning of April 2002. The solicitation will include specific funding totals for each program area of interest. Applications will be due for the various program areas in mid-May 2002. The formal solicitation will be disseminated electronically as solicitation number DE-PS01-02EE10846 through DOE's e-Center Web site and Industry Interactive Procurement System (IIPS) located at http://e-center.doe.gov. You can get more information about IIPS or register your organization to use IIPS on the e-center home page. Registration is a prerequisite to the submission of an application and applicants are encouraged to register as soon as possible. A users' manual for IIIPS can be found under the help button on the main e-Center page. Assistance for IIPS related problems is available through the IIPS help desk from 8 am to 8 pm, Monday through Friday, at 1-800-683-0751.

FOR FURTHER INFORMATION CONTACT: Contact the U.S. Department of Energy, Office of Headquarters Procurement Services, Attention ME-642.1 (Larry Lansing or Tova Stein, EERE-2002), 1000 Independence Ave., SW., Washington, DC 20585, e-mail: eere.grants@pr.doe.gov. Questions or comments should be categorized as administrative or financial assistance related. Administrative questions or comments relate only to the operation of IIPS. All questions or comments should be directed to the attention of Mr. Lansing (for program Areas of Interest 1 and 4) or Ms. Stein (for Program Areas of Interest 2, 3 and 8)). The preferred method of submitting questions and/or comments is through e-mail. Only questions and comments coordinated with Mr. Lansing or Ms. Stein will be considered.

SUPPLEMENTARY INFORMATION: EERE supports DOE's strategic objectives of increasing the efficiency and productivity of energy use, while limiting environmental impacts; reducing the vulnerability of the U.S. economy to disruptions in energy supplies; ensuring that a competitive electric utility industry is in place that can deliver adequate and affordable supplies with reduced environmental impacts; supporting U.S. energy, environmental, and economic interests in markets; and delivering leading-edge technologies. A key component of this program is the support of information dissemination, public outreach, training and related technical analysis and technical assistance activities to: (1) Stimulate increased energy efficiency in transportation, buildings, and industry and increased use of renewable energy; (2) accelerate the adoption of new technologies to increase energy efficiency and the use of renewable energy; (3) disseminate information to states, local governments and the public on EERE programs and technologies; and (4) address barriers to markets for EERE technologies. The purpose of this solicitation is to further these objectives through financial assistance in the following areas:

Office of Power Technologies (OPT)—The primary mission of this Office is: (1) To enable U.S. industry to complete the research, testing and field verification needed to fully develop advanced wind energy technologies that lead the world in cost effectiveness and reliability; (2) dramatically reduce dependence on foreign oil by developing a next generation hydrogen energy system to meet the President's National Energy Policy goal of reliable, affordable and environmentally sound energy for America's future; (3) provide unbiased technical assessments and information to federal, regional, and state decision makers on the benefits and costs of electric utility restructuring issues related to renewable energy and energy efficiency; (4) setting goals for the President's energy vision as part of the National Energy Policy and the Strategic Program Review; (5) develop renewable energy generation technologies capable of economically increasing the deployment of non-hydroelectric renewable generation capacity to a total of at least 25,000 megawatts by 2010; and (6) work in partnership with U.S. industry to establish geothermal energy as an economically competitive contributor to the U.S. energy supply. Financial assistance applications will be requested for information dissemination, public outreach, and related technical analysis activities involving several specific renewable technologies such as wind, hydrogen and geothermal technologies. Also, applications will be requested to perform information dissemination, public outreach and related technical assistance for: the co-sponsorship of conferences involving the Power Technologies sector; Power Technologies analysis collaborative incentives analysis, information dissemination and outreach; and electricity restructuring.

Office of Industrial Technologies (OIT)—The mission of this Office of Industrial Technologies (OIT) is to improve energy efficiency, environmental performance, and productivity of materials and process industries by developing and delivering advanced science and technology options that will: (1) Lower raw material and depletable energy use per unit output; (2) improve labor and capital productivity; and (3) reduce the generation of wastes and pollutants. OIT accomplishes its mission through its Industries: aluminum, steel, metal casting, glass, forest and paper products, chemicals, petroleum refining, agriculture-biobased products, and mining. At the national level, OIT has successfully facilitated the development of industry visions and technology roadmaps with these nine industries that are called the “vision industries.” Financial assistance applications will be requested to support information dissemination and outreach to facilitate multi-States implementation of the Industries of the Future program.

Office of Transportation Technologies (OTT)—The primary mission of this Office operates several programs to help promote the introduction of alternative fuel and advanced fuel and advance vehicle technology (fuels, vehicles, infrastructure) into the domestic transportation system in a safe, economical, and businesslike manner. OTT also supports the deployment of technologies, providing needed support at critical points in the transition of technologies from the laboratory to the marketplace. In addition, OTT implements many activities related to the alternative fuel provisions of the Energy Policy Act of 1992 (EPAct), including the Clean Cities program, federal fleet programs, analytical work, testing and evaluation, and regulatory efforts. Financial assistance applications will be requested to support information, dissemination and outreach activities for: co-sponsorship of conferences and events; training for local clean cities coalitions; and information dissemination and public outreach for niche markets.

Office of Building Technology, State and Community Programs (BTS)—The mission of this Office is to develop, promote, and integrate energy technologies and practices to make buildings more efficient and affordable and communities more livable. Financial assistance applications will be requested to support information dissemination, public outreach, and related technical analysis activities for the following BTS priorities: Addressing the efficient and renewable energy technology information deficit among commercial building constructors, owners, and managers; promoting energy efficiency and renewable energy utilization as a public value for residential builders and home buyers; increasing the availability of energy efficient school design, retrofit and technical resource information for school board members and school administrators; preparing the building trades, building operators, and building managers for the new generation of efficient and renewable energy technologies; promoting the widespread installation of dedicated compact fluorescent lamp fixtures; and strengthening the Rebuild America Program through outreach activities with stakeholder organizations representing facility managers, business officials and policy makers at colleges and universities, State and Local governments, elementary and secondary schools, and public and other low-income housing.

Federal Energy Management Program (FEMP)—The mission of the Federal Energy Management Program (FEMP) is to reduce the cost and environmental impact of government resource use by advancing energy efficiency and water conservation, promoting the use of renewable energy and managing utility costs in Federal buildings, facilities and operations. This program supports the Department's priority to lead by example through the government's own actions. FEMP accomplishes this mission, in part, by providing guidance on the use of effective energy saving technologies. Lighting systems consume approximately 40% of total building electricity, on a national average, and represent the largest single opportunity for reducing the energy use of Federal facilities. This work will provide certification of lighting professionals to help ensure that new and retrofit lighting projects exhibit the highest degree of energy efficiency and effectiveness to meet the President's National Energy Policy goal of reducing the cost of government by reducing energy use in federal facilities. FEMP also promotes Federal leadership in energy management and increasing awareness and energy management expertise in the Federal sector by providing technical assistance to senior FEMP management and federal facility energy managers which requires technology transfer and information dissemination to broad audiences. Financial assistance will be requested to support several specific program areas such as a national lighting certification program for lighting professionals.

Additional information about the programs of the Office of EERE can be obtained at the Office's Internet site at http://www.eren.doe.gov/ee.html.

Issued in Washington, DC on March 21, 2002.
Beth Tomasoni,
Acting Director, Operations Division B, Office of Headquarters Procurement Services.

[FR Doc. 02-7299 Filed 3-26-02; 8:45 am]

BILLING CODE 6450-01-P